DEPARTMENT OF HOMELAND SECURITY

Coast Guard

33 CFR Part 117

[Docket No. USCG-2018-0228]

Drawbridge Operation Regulation; Delaware River, Burlington, NJ and Bristol, PA

AGENCY: Coast Guard, DHS.

ACTION: Notice of deviation from drawbridge regulation.

SUMMARY: The Coast Guard has issued a temporary deviation from the operating schedule that governs the SR 413/Burlington-Bristol bridge, which carries SR 413 across the Delaware River, mile 117.8, between Burlington, NJ and Bristol, PA. The deviation is necessary to facilitate bridge maintenance. This deviation allows the bridge to remain in the closed-to-navigation position.

DATES: The deviation is effective from 7 a.m. on May 1, 2018, through 6 p.m. on September 30, 2018.

ADDRESSES: The docket for this deviation, USCG-2018-0228 is available at http://www.regulations.gov. Type the docket number in the “SEARCH” box and click “SEARCH”. Click on Open Docket Folder on the line associated with this deviation.

FOR FURTHER INFORMATION CONTACT: If you have questions on this temporary deviation, call or email Mr. Michael Thorogood, Bridge Administration Branch Fifth District, Coast Guard, telephone 757-398-6557, email Michael.R.Thorogood@uscg.mil.

SUPPLEMENTARY INFORMATION: The Burlington County Bridge Commission, owner and operator of the SR 413/Burlington-Bristol bridge, that carries SR 413 across the Delaware River, mile 117.8, between Burlington, NJ and Bristol, PA, has requested a temporary deviation from the current operating schedule to facilitate bridge maintenance and painting of the vertical lift span of the drawbridge. During the maintenance period a work platform will reduce one half of the bridge span vertical clearance to approximately 58 feet above mean high water in the closed position and approximately 132 feet above mean high water in the open position. The bridge has a vertical clearance of 135 feet above mean high water in the open position, and 61 feet above mean high water in the closed position.

The current operating schedule is set out in 33 CFR 117.716. Under this temporary deviation, the bridge will be in the closed-to-navigation position from 7 a.m. through 7 p.m.; Monday through Friday; and from 6 a.m. through 6 p.m.; Saturday through Sunday; from 7 a.m. on May 1, 2018, through 6 p.m. on September 30, 2018.

The Delaware River is used by a variety of vessels including deep draft commercial vessels, U.S. government and public vessels, small commercial vessels, tug and barge traffic, and recreational vessels. The Coast Guard has carefully coordinated the restrictions with waterway users in publishing this temporary deviation.

Vessels able to pass through the bridge in the closed-to-navigation position may do so at any time. The bridge will open on signal, if two hour prior notification is given. The bridge will not be able to open for emergencies and there is no immediate alternative route for vessels unable to pass through the bridge in the closed position. The Coast Guard will also inform the users of the waterway through our Local Notice and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: April 19, 2018.
Jerry R. Barnes,
Captain, U.S. Coast Guard, Fifth Coast Guard District.

[FR Doc. 2018-08762 Filed 4-25-18; 8:45 am]

BILLING CODE 9110-04-P